ENVIRONMENTAL PROTECTION AGENCY

40 CFR Part 52

[EPA-R05-OAR-2012-0453; FRL-9900-78-Region5]

Approval and Promulgation of Implementation Plans; Indiana; Volatile Organic Compound Emission Control Measures for Industrial Solvent Cleaning for Northwest Indiana

AGENCY: Environmental Protection Agency (EPA).

ACTION: Proposed rule.

SUMMARY: On May 29, 2012, the Indiana Department of Environmental Management (IDEM) submitted revisions to its volatile organic compound (VOC) industrial solvent cleaning rule for manufacturers of coatings, inks, adhesives, and resins for approval into its State Implementation Plan (SIP). These revisions are approvable because they are consistent with EPA's Industrial Solvent Cleaning Control Technique Guideline (CTG) document and therefore satisfy the reasonably available control technology (RACT) requirements of the Clean Air Act (Act).

DATES: Comments must be received on or before October 10, 2013.

ADDRESSES: Submit your comments, identified by Docket ID No. EPA-R05-OAR-2012-0453, by one of the following methods:

• www.regulations.gov: Follow the on-line instructions for submitting comments.

• Email: aburano.douglas@epa.gov.

• Fax: (312) 408-2279.

• Mail: Douglas Aburano, Chief, Attainment Planning and Maintenance Section (AR-18J), U.S. Environmental Protection Agency, 77 West Jackson Boulevard, Chicago, Illinois 60604.

• Hand Delivery: Douglas Aburano, Chief, Attainment Planning and Maintenance Section (AR-18J), U.S. Environmental Protection Agency, 77 West Jackson Boulevard, 18th floor, Chicago, Illinois 60604. Such deliveries are only accepted during the Regional Office's normal hours of operation, and special arrangements should be made for deliveries of boxed information. The Regional Office official hours of business are Monday through Friday, 8:30 a.m. to 4:30 p.m., excluding Federal holidays.

Instructions: Direct your comments to Docket ID No. EPA-R05-OAR-2012-0453. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Steven Rosenthal at (312) 886-6052 before visiting the Region 5 office.

FOR FURTHER INFORMATION CONTACT: Steven Rosenthal, Environmental Engineer, Attainment Planning & Maintenance Section, Air Programs Branch (AR-18J), U.S. Environmental Protection Agency, Region 5, 77 West Jackson Boulevard, Chicago, Illinois 60604, (312) 886-6052, rosenthal.steven@epa.gov.

SUPPLEMENTARY INFORMATION: Throughout this document whenever “we,” “us,” or “our” is used, we mean EPA. This supplementary information section is arranged as follows:

I. What should I consider as I prepare my comments for EPA?

II. What is the background for this action?

III. What are Indiana's submitted VOC rule revisions and what is EPA's analysis of the revisions?

IV. What action is EPA taking?

V. Statutory and Executive Order Reviews

I. What should I consider as I prepare my comments for EPA?

When submitting comments, remember to:

1. Identify the rulemaking by docket number and other identifying information (subject heading, Federal Register date, and page number).

2. Follow directions—EPA may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

II. What is the background for this action?

On February 24, 2010, EPA approved into Indiana's SIP several VOC rules in order to satisfy Indiana's VOC RACT requirements for the Lake and Porter County portion of the Chicago-Gary-Lake County, IL-IN, 1997 8-hour ozone nonattainment area. See 75 FR 8246. These rules included new rule 326 IAC 8-17 for Industrial Solvent Cleaning operations that was based on a CTG issued by EPA in 2006.

Subsequent to the approval of Indiana's rule, EPA concluded that low VOC content cleaning solvents were not adequate to clean process equipment and tanks at facilities that manufacture coatings, inks, adhesives and resins. As a result, EPA determined that RACT for these operations was the alternative requirements in the (California) Bay Area Air Quality Management District's rules, which are referenced in EPA's industrial solvent cleaning CTG.

EPA approved Wisconsin's industrial solvent cleaning rules for coating, ink, adhesive and resin manufacturing, based on the Bay Area rules, on August 7, 2012 (77 FR 46961). The American Coatings Association requested that that IDEM also adopt a solvent cleaning rule based on the Bay Area rules. In addition, IDEM realized that it had used limits in its rule that were inconsistent with RACT and EPA's 2006 CTG.

IDEM adopted these revisions on April 3, 2012, after public hearings on November 2, 2011, and February 1, 2012. IDEM submitted the revised rules to EPA on May 29, 2012.

III. What are Indiana's submitted VOC rule revisions and what is EPA's analysis of the revisions?

Indiana has revised its Industrial Solvent Cleaning rule, 326 IAC 8-17, for sources in Lake and Porter Counties as follows:

326 IAC 8-17-2(c)(11)—An exemption for the cleaning of application equipment used to apply solvent-borne fluoropolymer coatings has been added to the list of solvent cleaning operations exempted from the VOC content limitations in 326 IAC 8-17-4. This exemption corrects a mistake in Indiana's adoption of RACT and is consistent with EPA's 2006 CTG. It should not result in an increase in VOC emissions, as there are no known sources to which it will apply.

326 IAC 8-17-4(a)—The allowable VOC content for cleaning ultraviolet ink and electron beam application equipment, except for screen printing, has been increased from 4.2 to 5.4 pounds VOC/gallon. This corrects a mistake in Indiana's adoption of RACT and is consistent with EPA's 2006 CTG. It should not result in an increase in VOC emissions, as there are no known sources to which it will apply.

326 IAC 8-17-4(g)—Alternative cleaning requirements have been added for manufacturers of coatings, inks, adhesives and resins and corresponding recordkeeping requirements have been added in 326 IAC 8-17-7(f). These requirements are based on the Bay Area rules. These requirements apply to cleaning mixing vats, high dispersion mills, grinding mills, tote tanks, and roller mills, and consist of four options: (1) The solvent or solvent solution used must either contain less than 1.67 pounds VOC per gallon or have a VOC composite partial vapor pressure of less than or equal to 8 millimeters of mercury; (2) several work practices must be implemented, including storing all VOC-containing cleaning materials in closed containers; (3) the emissions from equipment cleaning must be collected and vented to an emission control system with an overall control efficiency of 80 percent or more on a mass basis; or (4) no more than 60 gallons of fresh solvent per month may be used and all VOC-containing cleaning materials must be stored in closed containers. The recordkeeping requirements in 326 IAC 8-17-7(f) have been added to determine whether the 60-gallon limit has been exceeded.

In addition, the owner or operator of a facility engaged in wipe cleaning may not use open containers for the storage of organic compounds to be used for cleaning, or for the storage or disposal of any material impregnated with organic compounds used for cleaning.

These alternative cleaning requirements are consistent with EPA's CTG, and will not result in an increase in emissions because there are no coating, ink, adhesive and resin manufacturers in Lake and Porter Counties, where they apply.

IV. What action is EPA taking?

EPA has determined that these revisions are consistent with this CTG and applicable EPA RACT guidance at www.epa.gov/ttn/naaqs/ozone/ozonetech/#ref. Therefore, EPA is proposing to approve the revisions to Indiana's Industrial Solvent Cleaning rules (in 326 IAC 8-17) as meeting the RACT requirements in the Act.

V. Statutory and Executive Order Reviews

Under the Act, the Administrator is required to approve a SIP submission that complies with the provisions of the Act and applicable Federal regulations. 42 U.S.C. 7410(k); 40 CFR Part 52.02(a). Thus, in reviewing SIP submissions, EPA's role is to approve State choices, provided that they meet the criteria of the Act. Accordingly, this action merely approves state law as meeting Federal requirements and does not impose additional requirements beyond those imposed by State law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Intergovernmental relations, Ozone, Reporting and recordkeeping requirements, Volatile organic compounds.

Dated: August 28, 2013.
Susan Hedman,
Regional Administrator, Region 5.

[FR Doc. 2013-22026 Filed 9-9-13; 8:45 am]

BILLING CODE 6560-50-P